DEPARTMENT OF DEFENSE

Office of the Secretary

[Transmittal No. 19-46]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-46 with attached Policy Justification and Sensitivity of Technology.

Dated: December 9, 2019.
Aaron T. Siegel,
Alternate OSD Federal Register Liaison Officer, Department of Defense.

BILLING CODE 5001-06-P

BILLING CODE 5001-06-C

Transmittal No. 19-46

Notice of Proposed Issuance of Letter of Offer Pursuant to Section 36(b)(1) of the Arms Export Control Act, as amended

(i) Prospective Purchaser: Government of Lithuania

(ii) Total Estimated Value:

Major Defense Equipment * | $147.0 million
Other | $ 23.8 million
TOTAL | $170.8 million

(iii) Description and Quantity or Quantities of Articles or Services under Consideration for Purchase:

Major Defense Equipment (MDE): Five hundred Joint Light Tactical Vehicles, M1278A1 Heavy Guns Carrier.

Non-MDE: Also included are Baseline Integration Kits; Ballistic Kits Armor; Explosive Formed Protection Kit; Shot Detection Boomerang Kits; Shot Detection, Boomerang III; GPS Stand Alone kits; Network Switch—8 port; M153 Common Remote Weapon Stations (CROWS); CROWS Baseline v2 Integration Kit; MK-93 Weapons Mounts; M2 QCB .50 CAL Machine Guns; M230 TAC-FLIR Systems; Opaque Armor (windows); Basic Issue Item Kits; Winch Kits; Flat Tow Kits; Run-Flat Kits; Spare Tire Kits; Combat Bumper Kits; Duramax Turbo Engine with Allison 6 speed automatic transmission and 4x4 TAK-4i Independent suspension systems; personnel training and training equipment; U.S. Government and contractor engineering, technical and logistics support services; and other related elements of logistical and program support.

(iv) Military Department: Army (LH-B-UDG)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: August 27, 2019

*As defined in Section 47(6) of the Arms Export Control Act.

POLICY JUSTIFICATION

Lithuania—Joint Light Tactical Vehicles and Accessories

The Government of Lithuania has requested to buy five hundred Joint Light Tactical Vehicles, M1278A1 Heavy Guns Carriers. Also included are Baseline Integration Kits; Ballistic Kits Armor; Explosive Formed Protection Kit; Shot Detection Boomerang Kits; Shot Detection, Boomerang III; GPS Stand Alone kits; Network Switch—8 port; M153 Common Remote Weapon Stations (CROWS); CROWS Baseline v2 Integration Kit; MK-93 Weapons Mounts; M2 QCB .50 CAL Machine Guns; M230 TAC-FLIR Systems; Opaque Armor (windows); Basic Issue Item Kits; Winch Kits; Flat Tow Kits; Run-Flat Kits; Spare Tire Kits; Combat Bumper Kits; Duramax Turbo Engine with Allison 6 speed automatic transmission and 4x4 TAK-4i Independent suspension systems; personnel training and training equipment; U.S. Government and contractor engineering, technical and logistics support services; and other related elements of logistical and program support. The total estimated program cost is $170.8 million.

This proposed sale will support the foreign policy and national security objectives of the United States by helping to improve the military capability of Lithuania, a NATO ally that is an important force for ensuring political stability and economic progress within Easter Europe.

The proposed sale of the Joint Light Tactical Vehicle (JLTV) will help improve Lithuania's light tactical vehicle fleet and enhance the capabilities to meet current and future enemy threats. Lithuania will have no difficulty absorbing this equipment into its armed forces.

The proposed sale of this equipment and support will not alter the basic military balance in the region.

The principal contractor will be Oshkosh Defense LLC of Oshkosh, WI. There are no known offset agreements associated with this proposed sale.

Implementation of this proposed sale will not require the assignment of additional U.S. Government or contractor representatives to Lithuania. However, it is anticipated that engineering and technical support services provided by the U.S. Government and/or the contractor may be required on an interim basis for training and technical assistance.

There will be no adverse impact on U.S. defense readiness as a result of this proposed sale.

Transmittal No. 19-46

Notice of Proposed Issuance of Letter of Offer Pursuant to Section 36(b)(1) of the Arms Export Control Act

Annex

Item No. vii

(vii) Sensitivity of Technology:

1. This sale will involve the release of sensitive technology to Lithuania. The Joint Light Tactical Vehicle platform is classified as SECRET. The Joint Light Tactical Vehicle fleet will incorporate Ballistic Armor Kits for protection from Improvised Explosive Devices.

2. Sensitive and/or classified (up to SECRET) elements of the proposed Joint Light Tactical Vehicle include hardware and accessories, components and associated software.

3. If a technologically advanced adversary were to obtain knowledge of the specific hardware and software elements, the information could be used to develop countermeasures, which might reduce weapon system effectiveness or be used in the development of a system with similar or advanced capabilities.

4. A determination has been made that the Government of Lithuania can provide substantially the same degree of protection for this technology as the U.S. Government. This proposed sale is necessary in furtherance of the U.S. foreign policy and national security objectives outlined in the Policy Justification.

5. All defense articles and services listed in this transmittal have been authorized for release and export to Lithuania.

[FR Doc. 2019-26978 Filed 12-13-19; 8:45 am]

BILLING CODE 5001-06-P